DEPARTMENT OF DEFENSE

Department of the Army; Corps of Engineers

Public Scoping Meetings for Update of the Water Control Manual for the Apalachicola-Chattahoochee-Flint River Basin in Georgia, Florida, and Alabama

AGENCY: Department of the Army, U.S. Army Corps of Engineers, DoD.

ACTION: Supplement to Notice of Intent.

SUMMARY: The U.S. Army Corps of Engineers (Corps), Mobile District, issued a Notice of Intent (NOI) in the Federal Register (73 FR 9780) published on February 22, 2008, describing the preparation of a Draft Environmental Impact Statement (EIS), as required by the National Environmental Policy Act (NEPA) to address the proposed update of the Water Control Manual (WCM) for the Apalachicola-Chattahoochee-Flint (ACF) River Basin located in Georgia, Florida, and Alabama. The Corps will hold five public scoping meetings during the month of October as part of its review and update of the WCM for the ACF River Basin. The public is invited to attend the scoping meetings which will provide information on the WCM update process and afford the opportunity to receive input from the public about their issues and concerns regarding that process. All five public meetings will be held using an open house format, allowing time for participants to review specific information and to provide comments to the resource staff attending the meeting.

DATES: See SUPPLEMENTARY INFORMATION section for meeting dates.

ADDRESSES: See SUPPLEMENTARY INFORMATION section for meeting addresses.

FOR FURTHER INFORMATION CONTACT: Questions about the manual update or NEPA process can be answered by: Mr. Brian Zettle, Biologist, Environment and Resources Branch, Planning and Environmental Division, U.S. Army Engineer District-Mobile, Post Office Box 2288, Mobile, AL 36628-0001; Telephone (251) 690-2115; or delivered by electronic facsimile at (251) 694-3815; or e-mail: brian.a.zettle@.usace.army.mil. You may also request to be included on the mailing list for public distribution of notices, meeting announcements and documents.

SUPPLEMENTARY INFORMATION: The meeting dates are:

1. October 20, 2008, 5 p.m.-8 p.m. (EDT), Apalachicola, FL.

2. October 21, 2008, 5 p.m.-8 p.m. (CDT), Dothan, AL.

3. October 22, 2008, 5 p.m.-8 p.m. (EDT), LaGrange, GA.

4. October 23, 2008, 4 p.m.-7 p.m. (EDT), Marietta, GA.

5. October 29, 2008, 5 p.m.-8 p.m. (EDT), Gainesville, GA.

The meeting locations are:

1. Apalachicola, FL—Franklin County Courthouse, 33 Market Street, Apalachicola, FL 32320, (850) 653-8861.

2. Dothan, AL—Dothan Convention Center, 4106 Ross Clark Circle, Dothan, AL 36303, (334) 712-9808.

3. LaGrange, GA—Callaway Center at West Georgia Technical College, One College Circle, LaGrange, GA 30240, (706) 845-4323.

4. Marietta, GA—Cobb County Government: Civic Center, Hudgins Hall, 548 S. Marietta Parkway SE., Marietta, GA 30060, (770) 528-8450.

5. Gainesville, GA—Georgia Mountain Center, 301 Main Street, SW., Gainesville, GA 30503, (770) 534-8420.

Additional information on the ACF River Basin and the Water Control Manual update process will be posted on the Mobile District Web page as it becomes available: http://www.sam.usace.army.mil.

Dated: September 12, 2008.
Byron G. Jorns,
Colonel, Corps of Engineers, District Commander.

[FR Doc. E8-21912 Filed 9-18-08; 8:45 am]

BILLING CODE 3710-CR-P